FEDERAL COMMUNICATIONS COMMISSION

47 CFR Part 73

[DA 01-1081; MM Docket No. 00-6; RM-9791; RM-9890]

Radio Broadcasting Services; McCook, Alliance, Imperial, NE, Limon, Parker, Aspen, Avon, Westcliffe, CO

AGENCY: Federal Communications Commission.

ACTION: Final rule.

SUMMARY: The Commission, at the request of McCook Radio Group, LLC, allots Channel 271C1 to McCook, NE, as the community's fifth local FM service. At the request of The Meadowlark Group, Inc., the Commission substitutes Channel 276C for Channel 276C1 at Limon, CO, reallots Channel 276C to Parker, CO, and modifies the license of Station KAVD accordingly. To accommodate the allotment of Channel 276C to Parker, the Commission also substitutes: (1) Channel 276C3 for Channel 249C3 at Aspen, CO, and modifies the license of Station KSPN; (2) Channel 249C2 for Channel 276C2 at Avon, CO, and modifies the license of Station KZYR; (3) Channel 227A for vacant and unapplied for Channel 276A at Westcliffe, CO; (4) Channel 275CO for Channel 275C at Imperial, NE, and modifies the construction permit of Imperial Media Association. See 65 FR 4798, February 1, 2000. A filing window for Channel 271C1 at McCook, NE, will not be opened at this time. Instead, the issue of opening this allotment for auction will be addressed by the Commission in a subsequent Order.

DATES: Effective June 12, 2001.

FOR FURTHER INFORMATION CONTACT: Robert Hayne, Mass Media Bureau, (202) 418-2177.

SUPPLEMENTARY INFORMATION: Channel 271C1 can be allotted to McCook, Nebraska, in compliance with the Commission's minimum distance separation requirements with a site restriction of 19.6 kilometers (12.2 miles) west, at coordinates 40-12-00 NL; 100-51-25 WL, to avoid a short-spacing to Station KKQY, Channel 270C1, Hill City, Kansas, and the pending application of Station KRNY, Channel 272C1, Kearney, Nebraska. Channel 275C0 can be allotted to Imperial, Nebraska, at the site specified in Imperial Media's construction permit (BPH-19970924ML), at coordinates 40-45-31 NL; 101-52-32 WL. Channel 276C can be allotted to Parker with a site restriction of 63.4 kilometers (39.4 miles) east to accommodate Meadowlark's desired transmitter site, at coordinates 39-26-08 NL; 104-02-05 WL. Channel 249C2 can be allotted to Avon, Colorado, with a site restriction of 5.3 kilometers (3.3 miles) east, at coordinates 39-37-52 NL; 106-27-42 WL. Channel 276C3 can be allotted to Aspen, Colorado, at Station KSPN-FM's licensed transmitter site, at coordinates 39-13-33 NL; 106-50-00 WL. Channel 227A can be allotted to Westcliffe, Colorado, at the same coordinates as presently allotted Channel 276A, which are 38-04-28 NL; 105-32-13 WL.

This is a synopsis of the Commission's Report and Order, MM Docket No. 00-6, adopted April 25, 2001, and released April 27, 2001. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Colorado, is amended by removing Channel 249C3 and adding Channel 276C3 at Aspen, removing Channel 276C2 and adding Channel 249C2 at Avon, removing Channel 276C1 at Limon, removing Channel 276A and adding Channel 227A at Westcliffe and by adding Parker, Channel 276C.

3. Section 73.202(b), the Table of FM Allotments under Nebraska, is amended by adding Channel 275C0 and removing Channel 275C at Imperial, adding Channel 271C1 at McCook.

Federal Communications Commission.
John A. Karousos,
Chief, Allocations Branch, Policy and Rules Division, Mass Media Bureau.

[FR Doc. 01-12090 Filed 5-14-01; 8:45 am]

BILLING CODE 6712-01-P